EXPORT-IMPORT BANK

Receipt of Request(s) To Increase the Amount of the Long-Term General Guarantee on the Interest of Secured Notes Issued by the Private Export Funding Corporation (PEFCO)

AGENCY: Export-Import Bank of the United States

ACTION: Notice

SUMMARY: This Notice is to inform the public that Export-Import Bank of the United States (“EXIM”) is expected to consider one or more requests to increase the amount of the long-term general guarantee on the interest of Secured Notes issued by the Private Export Funding Corporation (PEFCO). Comments received within the comment period specified below will be presented to the EXIM Board of Directors prior to any final action during the fiscal year ending on September 30, 2025.

DATES: Comments must be received on or before October 8, 2024 to be assured of consideration before any final decision on one or more additional guarantees during the course of fiscal year 2025.

ADDRESSES: Comments may be submitted through Regulations.gov at www.regulations.gov. To submit a comment, enter Export-Import under the heading “Enter” and select Search. Follow the instructions provided at the Submit a Comment screen. Please include your name, company name (if any), and on any attached document.

SUPPLEMENTARY INFORMATION:

Reference: AP003048AA.

Brief Description of Nature and Purpose of the Facility: EXIM may consider one or more general guarantees on the interest of Secured Notes issued by the Private Export Funding Corporation (PEFCO), in accordance with both the Guarantee and Credit Agreement, as Amended, and the Guarantee Agreement between EXIM and PEFCO. The purpose of the guarantees of interest on the Secured Notes is to facilitate private funding from the U.S. capital markets for EXIM-guaranteed export finance transactions.

Total Amount of Guarantees: The exact number is not determinable due to market-determined pricing and uncertainty as to the amount and timing of Secured Notes to be issued; however, it could potentially be in excess of $100 million for Secured Notes issued during the course of fiscal year 2025.

Reasons for the Facility and Methods of Operation: The general guarantee serves to guarantee interest on PEFCO's issuance of Secured Notes. The principal amount of the Secured Notes is secured by a collateral pool of U.S. Government-risk debt and securities, including EXIM-guaranteed loans. The proceeds from the Secured Notes are used to fund additional EXIM-guaranteed loans and provide a liquid secondary market for EXIM-guaranteed loans.

Party Requesting Guarantee: Private Export Funding Corporation (PEFCO).

Information on Decision: Information on the final decision for this transaction will be available in the “Summary Minutes of Meetings of Board of Directors” on https://www.exim.gov/news/meeting-minutes.

Deidre Hodge,
Assistant Corporate Secretary.

[FR Doc. 2024-20858 Filed 9-12-24; 8:45 am]

BILLING CODE 6690-01-P